DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed collection: Employment of Apprentices, Messengers and Learners (Including Student-Learners and Student-Workers), Forms WH-205 and WH-209. A copy of the proposed information collection request can be obtained by contacting the office listed below in the addresses section of this Notice.

DATES: Written comments must be submitted to the office listed in the addresses section below on or before February 27, 2006.

ADDRESSES: Ms. Hazel M. Bell, U.S. Department of Labor, 200 Constitution Ave., NW., Room S-3201, Washington, DC 20210; telephone: (202) 693-0418; fax: (202) 693-1451; e-mail: bell.hazel@dol.gov. Please use only one method of transmission for comments (mail, fax, or e-mail).

SUPPLEMENTARY INFORMATION

I. Background

Fair Labor Standards Act (FLSA) 14(a) requires that the Secretary of Labor, to the extent necessary to prevent curtailment of employment opportunities, provide by regulations or orders for the employment of categories of workers who, under special certificates, may be paid less than the statutory minimum wage. This section also authorizes the Secretary to set limitations on such employment as to time, number, proportion and length of service. These workers include apprentices, messengers and learners, including student-learners and student-workers. Regulations found at 29 CFR Part 520 contain the provisions that implement the FLSA 14(a) requirements. Form WH-205 is the application an employer uses to obtain a certificate to employ student-learners at wages lower than the general federal minimum wage. Form WH-209 is the application an employer uses to request a certificate authorizing the employer to employ learners and/or messengers at subminimum wage rates. There is no application form that employers complete to obtain authority from DOL to employ apprentices at subminimum wages. This information collection is currently approved for use through July 31, 2006.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Wage and Hour Division seeks the approval of the extension of this information collection to obtain wage data in order to determine current prevailing wage rates in the various localities throughout the country.

Type of Review: Extension.

Agency: Employment Standards Administration.

Title: Employment of Apprentices, Messengers and Learners (Including Student-Learners and Student-Workers).

OMB Number: 1215-0192.

Agency Number: WH-205 and WH-209.

Affected Public: Business or other for-profit; Not-for-profit institutions; State, Local or Tribal Government.

Total Respondents: 929.

Total Annual Responses: 929.

Type of Response: Recordkeeping; Reporting and Third-Party Disclosure.

Estimated Time per Response: 30 minutes.

Estimated Total Burden Hours: 465.

Frequency: Annually.

Total Burden Cost (capital/startup): $0.

Total Burden Cost (operating/maintenance): $371.60.

Comments submitted in response to this notice will be summarized and/or included in the request for Office of Management and Budget approval of the information collection request; they will also become a matter of public record.

Dated: December 22, 2005.
Sue Blumenthal,
Acting Chief, Branch of Management Review and Internal Control, Division of Financial Management, Office of Management, Administration and Planning, Employment Standards Administration.

[FR Doc. E5-8015 Filed 12-28-05; 8:45 am]

BILLING CODE 4510-27-P